DEPARTMENT OF HOMELAND SECURITY

Federal Emergency Management Agency

[Docket ID: 2013-0046; OMB No. 1660-0029]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 26, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Approval and Coordination of Requirements to Use the NETC Extracurricular for Training Activities.

Type of information collection: Extension, without change, of a currently approved information collection.

OMB Number: 1660-0029.

Form Titles and Numbers: FEMA Form 119-17-1, Request for Housing Accommodations; FEMA Form 119-17-2, Request for Use of NETC Facilities.

Abstract: FEMA established the National Emergency Training Center (NETC), located in Emmitsburg, Maryland to offer training for the purpose of emergency preparedness. The NETC site has facilities and housing available for those participating in emergency preparedness. When training space and/or housing is required for those attending the training, an entity must request use of these areas in advance. This collection provides the mechanism to receive such requests.

Affected Public: Not-for-profit institutions; Federal Government; State, Local or Tribal Government; Individuals or households; and Business or other for-profit. Estimated Number of Respondents: 60.

Estimated Total Annual Burden Hours: 12 hours.

Estimated Cost: The estimated annual cost to respondents for the hour burden is $370.00. There are no annual costs to respondents operations and maintenance costs for technical services. There are no annual start-up or capital costs. The cost to the Federal Government is $10,843.00.

Dated: February 7, 2014.
Charlene D. Myrthil,
Director, Records Management Division, Mission Support Bureau, Federal Emergency Management Agency, Department of Homeland Security.

[FR Doc. 2014-03756 Filed 2-21-14; 8:45 am]

BILLING CODE 9111-45-P